DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “SelectMD 2.0 Clinician Choice Experiment.” In accordance with the Paperwork Reduction Act of 1995, 44 U.S.C. 3506(c)(2)(A), AHRQ invites the public to comment on this proposed information collection.

DATES: Comments on this notice must be received by March 31, 2014.

ADDRESSES: Written comments should be submitted to: Doris Lefkowitz, Reports Clearance Officer, AHRQ, by email at doris.lefkowitz@ahrq.hhs.gov. Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@ahrq.hhs.gov.

SUPPLEMENTARY INFORMATION:

Proposed Project

SelectMD 2.0 Clinician Choice Experiment

This study builds on previous research conducted as part of the Consumer Assessment of Healthcare Providers and Systems (CAHPS) program to explore new ways of integrating patient comments with other performance metrics in web-based quality reports for consumers to support their choice of physicians. Our previous consumer choice study, referred to as SelectMD 1.0 (approved by OMB on 3/8/10 under OMB Control Number 0935-0161), revealed important risks and opportunities of using patient comments that require additional research in order to develop effective guidance for report sponsors. Sponsors of performance reports in both the public and private sectors, including Federal agencies such as the Centers for Medicare & Medicaid Services (CMS), have indicated strong interest in receiving such guidance on strategies for effectively incorporating patient comments to increase consumers' use of public reports and to enhance their ability to interpret CAHPS and other performance measures.

This follow-on study (referred to as SelectMD 2.0) will use an experimental design to test different methods of incorporating patient comments along with CAHPS survey results, the Healthcare Effectiveness Data and Information Set (HEDIS)-like measures of effective clinical treatments, and indicators of patient safety in web-based physician quality reports. The study will help AHRQ understand how people choose a doctor as their regular source of medical care and advice.

The study has three stages. In the first stage, respondents will be asked some questions about their health care experiences and how they go about choosing a doctor. In the second stage the respondents will log onto an experimental Web site that has information about a fictitious set of doctors from which to choose. Respondents will be asked to use the information on the Web site to select a doctor who they think would be the best for their health care needs. Although they will not really be selecting a doctor, they will be asked to consider the choice as carefully as if they were making it for themselves. In the third stage, following their selection of a doctor, respondents will answer a set of questions about how they made their choice of doctor, how useful they found the Web site, and how confident they were in the choice they made.

This research has the following goals:

(1) To expand on the findings from AHRQ's previous choice experiment regarding how including narrative patient comments in web-based physician quality reports influences the ways in which consumers learn about and select among clinicians, and

(2) to assess whether and how patient comments can be presented in a way that promotes learning about physician quality and complements rather than detracts from standardized measures of quality.

This study is being conducted by AHRQ through its contractors, RAND and Yale University, pursuant to AHRQ's statutory authority to conduct and support research on healthcare and on systems for the delivery of such care, including activities with respect to the quality, effectiveness, efficiency, appropriateness and value of healthcare services and with respect to quality measurement and improvement. 42 U.S.C. 299a(a)(1) and (2).

Method of Collection

To achieve the goals of this project the following data collections will be implemented over the three stages of the experiment:

(1) Pre-Choice Survey—The purpose of this survey is to measure the respondents' previous exposure to information on health care provider performance and how they go about choosing a physician.

(2) Experimental Web site—The purpose of this site is to present different combinations and displays of performance information that respondents will use to select a doctor. Respondents will be randomly assigned to one of eight different versions of the experimental SelectMD Web site that will vary according to the level of detail presented, how patient comments are grouped and labeled, whether respondents can choose which and how much information to review, and whether respondents have access to live telephone assistance when making their choices.

(3) Post-Choice Survey—The purpose of the post-choice survey is to assess how respondents made their doctor selection, how useful the Web site version assigned to them was in helping to make their choice, and how confident they are in the choice they made. Responses to the post-choice survey will provide insights into which of the experimental Web site versions are more effective in supporting consumer choice of doctors and why.

The results of this study will be used to develop recommendations for helping consumers to better understand and more effectively use complex information to select health care providers, with the aim of making performance information less burdensome and more accessible, useful, and transparent to the public. In particular, the study findings will inform the design and content of the growing number of Web-based reports on provider performance incorporating patient comments along with other measures of quality. By adding to the evidence base on the types and combination of information that are most salient and useful to consumers in choosing among provider options, the study will make a significant contribution to improving current reporting initiatives. In addition, the simulated Web-based reports will be made available as examples for other report developers to use.

Estimated Annual Respondent Burden

Exhibit 1 shows the estimated annualized burden hours for the respondents' time to participate in this experiment. The portion of the experiment involving respondent participation will take place over a period of approximately two months, once OMB approval has been received. All participants will complete the pre-choice survey, which is estimated to take 10 minutes. To assess the impact of their exposure to the SelectMD Web site, several questions on the initial pre-choice survey are replicated on the post-choice questionnaire. To reduce the likelihood that respondents will simply repeat the answers that they provided on the pre-choice survey (in an effort to appear consistent), it is essential to allow some time to elapse between the two surveys. Consequently, participants will not have access to the SelectMD Web site until one week after completing the pre-choice survey. Since we expect that about 5% of participants taking the pre-choice survey will not return to participate in the experiment one week later, the number of respondents initially required is 5% higher (1,575) than the full sample of 1,500 required for the experiment. We estimate based on our previous experience with the SelectMD 1.0 experiment that participants will require about 10 minutes to review the information on the Web site and select their preferred physician from the set of doctors available. The average time required to complete the post-choice survey is estimated to be 20 minutes. Consequently, respondents will average about 40 minutes completing all three phases of the study.

Exhibit 2 shows the respondents' cost burden for their time to participate in this experiment. The total cost burden is estimated to be $22,297.

Exhibit 1—Estimated Annualized Burden Hours
Form name | Number of respondents | Number of responses per respondent | Hour per response (min/60) | Total burden-hours
Pre-Choice Survey | 1575 | 1 | 10/60 | 263
Time on Website (Choosing MD) | 1500 | 1 | 10/60 | 250
Post-Choice Survey | 1500 | 1 | 20/60 | 500
Total Hours | 4,575 | na | na | 1,013

Exhibit 2—Estimated Annualized Cost Burden
Form name | Number of respondents | Total burden hours | Average hourly wage rate * | Total cost burden
Pre-Choice Survey | 1575 | 263 | $22.01 | $5,789
Time on Website (Choosing MD) | 1500 | 250 | 22.01 | 5,503
Post-Choice Survey | 1500 | 500 | 22.01 | 11,005
Total Cost |  |  |  | 22,297
* Based upon the national mean hourly wage for all occupations from the “May 2012 Occupational Employment and Wage Estimates”, U.S. Department of Labor, Bureau of Labor Statistics.

Request for Comments

In accordance with the Paperwork Reduction Act, comments on AHRQ's information collection are requested with regard to any of the following: (a) Whether the proposed collection of information is necessary for the proper performance of AHRQ health care research and information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: January 16, 2014.
Richard Kronick,
AHRQ Director.

[FR Doc. 2014-01710 Filed 1-28-14; 8:45 am]

BILLING CODE 4160-90-P